DEPARTMENT OF HEALTH AND HUMAN SERVICES

Administration for Children and Families

Agency Recordkeeping/Reporting Requirements Under Emergency Review by the Office of Management and Budget (OMB)

Title: Low Income Home Energy Assistance Program (LIHEAP) Grantee Needs Assessment.

OMB No.: New Collection.

Description: This information collection is a direct response to recommendations for strengthening LIHEAP program integrity made by the Government Accountability Office in 2010 and the LIHEAP Program Integrity Work Group. The purpose of this data collection is to gauge the capacity of LIHEAP grantees to perform two critical tasks:

1. To implement third-party verification of household data obtained during the LIHEAP intake process, in order to strengthen program integrity by reducing the risk of making LIHEAP benefit payments to ineligible households or in the wrong amount. These risks arise in large part when there are errors or fraud in the reporting of household members' identity and income during the LIHEAP intake process.

2. To collect and report new performance measures that ACF is proposing to require of all State LIHEAP grantees by Fiscal Year 2015.

This needs assessment represents a maturity model—a process for determining the existing capabilities of grantees. Through a web-based tool, respondents will be asked to indicate the level of maturity, or sophistication, of their program across multiple areas of evaluation. The data collected will be analyzed to identify strengths and weaknesses among grantees and determine opportunities for improvement. This needs assessment is designed to identify and organize the systems, processes and activities that are critical to each grantee's LIHEAP program.

The needs assessment is broken up into multiple sections. Each section is focused on a different part of the overall program, and as such may be best answered by an individual with expertise in that specific area of the program. Burden estimates shown below represent the total time to complete all sections by all relevant parties.

The data that will be obtained through this needs assessment is a one-time collection to inform ACF in its operational decision-making over how to distribute training and technical assistance, and other capacity building resources to its directly-funded LIHEAP grantees. The data will be for internal use by ACF and its contractors for this internal purpose only. Currently, there is very limited data available on a national scale to provide program administrators and stakeholders information on the impact of LIHEAP services and the effectiveness of how the program is administered. The data that will be collected through this needs assessment will inform ACF as to how to help LIHEAP grantees improve the timeliness and accuracy of their data collection and reporting which will in turn provide better feedback to ACF and national stakeholders about the program's performance.

Respondents: The respondents to this one-time needs assessment will be all 51 State LIHEAP grantees, including the District of Columbia, and the Commonwealth of Puerto Rico.

Annual Burden Estimates
Instrument | Number of respondents | Number of responses per respondent | Average burden hours per response | Total burden hours
Grantee Needs Assessment | 52 | 1 | 1 hr. 40 min. | 86 hours 40 minutes.

Estimated Total Annual Burden Hours: 86 hours 40 minutes.

Additional Information: ACF is requesting that OMB grant a 180 day approval for this information collection under procedures for emergency processing by October 28, 2013. A copy of this information collection, with applicable supporting documentation, may be obtained by calling the Administration for Children and Families, Reports Clearance Officer, Robert Sargis at (202) 690-7275.

Comments and questions about the information collection described above should be directed to the Office of Information and Regulatory Affairs, Attn: OMB Desk Officer for ACF, Office of Management and Budget, Paperwork Reduction Project, 725 17th Street NW., Washington, DC 20503; FAX: (202) 395-7285; email: oira_submission@omb.eop.gov.

Robert Sargis,
Reports Clearance Officer.

[FR Doc. 2013-24579 Filed 10-21-13; 8:45 am]

BILLING CODE 4184-01-P